DEPARTMENT OF ENERGY

Federal Energy Regulatory Commission

[Docket No. ER08-960-000]

California Independent System Operator Corporation; Notice of FERC Staff Attendance

June 27, 2008.

The Federal Energy Regulatory Commission (Commission) hereby gives notice that on the following date members of its staff will attend a stakeholder meeting of the California Independent System Operator (CAISO).

July 1, 2008: Generator Interconnection Process Reform.

Unless otherwise noted, this meeting will be held at the CAISO, 151 Blue Ravine Road, Folsom, CA, or by teleconference. The agenda and other documents for the meeting are available on the CAISO's Web site, http://www.caiso.com.

Sponsored by the CAISO, this meeting is open to all market participants, and staff's attendance is part of the Commission's ongoing outreach efforts. The meeting may discuss matters at issue in the above captioned docket.

For further information, contact Saeed Farrokhpay at saeed.farrokhpay@ferc.gov, (916) 294.0322 or Maury Kruth at maury.kruth@ferc.gov, (916) 294-0275.

Kimberly D. Bose,
Secretary.

[FR Doc. E8-15216 Filed 7-3-08; 8:45 am]

BILLING CODE 6717-01-P